DEPARTMENT OF TRANSPORTATION

Federal Aviation Administration

14 CFR Part 39

[Docket No. 2001-NM-269-AD]

RIN 2120-AA64

Airworthiness Directives; Dassault Model Falcon 900 EX and Mystere-Falcon 900 Series Airplanes

AGENCY: Federal Aviation Administration, DOT.

ACTION: Supplemental notice of proposed rulemaking; reopening of comment period.

SUMMARY: This document revises an earlier proposed airworthiness directive (AD), applicable to certain Dassault Model Falcon 900 EX and Mystere-Falcon 900 series airplanes, that would have required installing an attachment support assembly for the fire extinguishing piping in the baggage compartment. This new action revises the proposed rule by proposing to add a requirement to modify the liner panel of the baggage compartment for certain airplanes. The actions specified by this new proposed AD are intended to prevent distortion of the fire extinguishing discharge nozzle as a result of the nozzle not being secure, which could result in poor diffusion of the fire extinguishing agent in the event of a fire in the baggage compartment. This action is intended to address the identified unsafe condition.

DATES: Comments must be received by October 15, 2003.

ADDRESSES: Submit comments in triplicate to the Federal Aviation Administration (FAA), Transport Airplane Directorate, ANM-114, Attention: Rules Docket No. 2001-NM-269-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-269-AD” in the subject line and need not be submitted in triplicate. Comments sent via the Internet as attached electronic files must be formatted in Microsoft Word 97 or 2000 or ASCII text.

The service information referenced in the proposed rule may be obtained from Dassault Falcon Jet, P.O. Box 2000, South Hackensack, New Jersey 07606. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-269-AD.” The postcard will be date stamped and returned to the commenter.

Availability of NPRMs

Any person may obtain a copy of this NPRM by submitting a request to the FAA, Transport Airplane Directorate, ANM-114, Attention: Rules Docket No. 2001-NM-269-AD, 1601 Lind Avenue, SW., Renton, Washington 98055-4056.

Discussion

A proposal to amend part 39 of the Federal Aviation Regulations (14 CFR part 39) to add an airworthiness directive (AD), applicable to certain Dassault Model Falcon 900 EX and Mystere-Falcon 900 series airplanes, was published as a notice of proposed rulemaking (NPRM) in the Federal Register on January 30, 2003 (68 FR 4739). That NPRM (the “original NPRM”) would have required installing an attachment support assembly for the fire extinguishing piping in the baggage compartment. The original NPRM was prompted by a report of a damaged (distorted) discharge nozzle. This condition, if not corrected, could result in poor diffusion of the fire extinguishing agent in the event of a fire in the baggage compartment.

Comments

Due consideration has been given to the comments received in response to the original NPRM.

Request To Cite Revised Service Bulletin

The original issue of Dassault Service Bulletin F900-279 was cited in the original NPRM as the appropriate source of service information for the support assembly installation on Model Mystere-Falcon F900 series airplanes. The manufacturer (and sole commenter on the original NPRM) discovered that Dassault Service Bulletin F900-279 is not “totally efficient” for Model Mystere-Falcon F900 series airplanes, serial numbers (S/Ns) 1 through 59, that weren't modified in production (Modification M874). Modification M874 introduces a different angle of the nozzle and the associated cutting in the liner panel. The manufacturer has issued Dassault Service Bulletin F900-279, Revision 1, dated May 15, 2002, to provide procedures to reinforce the extinguishing diffuser fitting and ensure the proper upward direction of the nozzle. The manufacturer requests that the original NPRM be revised to cite Revision 1 of the service bulletin.

The FAA concurs. Revision 1 of the service bulletin adds procedures for airplanes having S/Ns 1 through 59 that were modified in accordance with the original issue of Service Bulletin F900-279. The Direction Générale de l'Aviation Civile (DGAC), which is the airworthiness authority for France, recognizing the need for different requirements for the different affected airplane models, issued French airworthiness directives 2001-192-034(B) R1 (for Model F900EX series airplanes) and 2002-261(B) (for Model Mystere-Falcon F900 series airplanes), both dated May 15, 2002, to account for the possible incorporation of Modification M874. Paragraph (a) in this supplemental NPRM has been revised to cite Revision 1 of Service Bulletin F900-279.

Request To Revise the Applicability

The commenter requests that the applicability specified in the original NPRM be revised, and suggests specific language intended to more correctly define the affected airplanes.

In light of the service bulletin revision and production modification for certain models, we concur with the request and have revised the applicability accordingly in this supplemental NPRM.

Request To Revise Requirement

The commenter notes that the paragraph numbering in the Accomplishment Instructions is no longer the same in both service bulletins. The commenter requests that paragraph (a) of the original NPRM be revised to reflect the additional steps in Service Bulletin F900-279, Revision 1, which account for the possible incorporation of Modification M874.

The FAA agrees. Paragraph (a) has been revised in this supplemental NPRM to more clearly identify the applicable service information for the corresponding actions.

Request To Cite New/Revised French Airworthiness Directives

The commenter requests that the original NPRM be revised to cite the new/revised French airworthiness directives.

We agree and have accordingly revised Note 1 in this supplemental NPRM (Note 3 in the original NPRM).

Request To Require Report

The commenter requests that the original NPRM be revised to require the compliance report recommended in the service bulletins. The commenter asserts that the reports help provide better customer support.

We do not concur with the request to require such a report. The Paperwork Reduction Act of 1980 (44 U.S.C. 3501 et seq.) requires agencies to consider the extent of the paperwork burden that will accompany any new rule. This Act is intended to reduce these burdens by requiring agencies not only to analyze the information collection and reporting costs they are imposing on the private sector, but to use those analyses to minimize the cost. Therefore, we cannot justify imposing this burden, which would not help to eliminate the unsafe condition.

Conclusion

Since certain changes expand the scope of the original NPRM, we have determined that it is necessary to reopen the comment period to provide additional opportunity for public comment.

Changes to 14 CFR Part 39/Effect on the Proposed AD

On July 10, 2002, we issued a new version of 14 CFR part 39 (67 FR 47997, July 22, 2002), which governs the FAA's AD system. This regulation now includes material that relates to altered products, special flight permits, and alternative methods of compliance (AMOCs). Because we have now included this material in part 39, only the office authorized to approve AMOCs is identified in each individual AD.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

We estimate that 150 airplanes of U.S. registry would be affected by this proposed AD.

It would take about 3 work hours per airplane to install the support assembly, at an average labor rate of $65 per work hour. Required parts would be provided by the manufacturer at no cost to the operators. Based on these figures, the cost impact of this proposed action on U.S. operators is estimated to be $29,250, or $195 per airplane.

If required, the panel modification would take about 4 work hours per airplane, at an average labor rate of $65 per work hour. Based on these figures, the cost impact of the proposed panel modification is estimated to be about $260 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Dassault Aviation: Docket 2001-NM-269-AD.

Applicability: The following airplanes, certificated in any category:

Table—Applicability
Model— | Excluding airplanes modified in accordance with Dassault Service Bulletin— | Which corresponds to Dassault Modification—
Mystere-Falcon 900 series airplanes | MF900-279, dated June 7, 2001 | M3368.
| or F900-279, Revision 1, dated May 15, 2002 | M3368 and M874.
Falcon 900EX series airplanes | F900EX-142, dated June 7, 2001 | F900EX M3368.

Compliance: Required as indicated, unless accomplished previously.

To prevent distortion of the fire extinguishing discharge nozzle as a result of the nozzle not being secure, which could result in poor diffusion of the fire extinguishing agent in the event of a fire in the baggage compartment, accomplish the following:

Installation

(a) Within 7 months or 330 flight hours after the effective date of this AD, whichever comes first, install an attachment support assembly for the fire extinguishing piping in the baggage compartment, in accordance with the following service information, as applicable:

(1) For Model Falcon 900 EX series airplanes: Paragraphs 2.A. through 2.C. of the Accomplishment Instructions of Dassault Service Bulletin F900EX-142, dated June 7, 2001.

(2) For Model Mystere-Falcon F900 series airplanes: Paragraphs 2.A. through 2.D., as applicable, of the Accomplishment Instructions of Dassault Service Bulletin F900-279, Revision 1, dated May 15, 2002. Paragraph 2.B. of this service bulletin includes a modification of the liner panel of the baggage compartment for airplanes having serial numbers 1 through 59 inclusive, with the nozzle directed downward.

Alternative Methods of Compliance

(b) In accordance with 14 CFR 39.19, the Manager, International Branch, ANM-116, FAA, is authorized to approve alternative methods of compliance for this AD.

Note 1: The subject of this AD is addressed in French airworthiness directives 2001-192-034(B) R1 and 2002-261(B), both dated May 15, 2002.

Issued in Renton, Washington, on September 15, 2003.
Ali Bahrami,
Acting Manager, Transport Airplane Directorate, Aircraft Certification Service.

[FR Doc. 03-23937 Filed 9-18-03; 8:45 am]

BILLING CODE 4910-13-P